DEPARTMENT OF ENERGY

Federal Energy Regulatory Commission

Combined Notice of Filings #2

Take notice that the Commission received the following electric corporate filings:

Docket Numbers: EC13-128-000.

Applicants: Silver Merger Sub, Inc., Nevada Power Company, Sierra Pacific Power Company, NV Energy, Inc.

Description: Supplement adding MidAmerican Energy Holdings Company as an Applicant to July 12, 2013 Joint Application for Authorization.

Filed Date: 7/17/13.

Accession Number: 20130717-5240.

Comments Due: 5 p.m. ET 9/10/13.

Take notice that the Commission received the following electric rate filings:

Docket Numbers: ER12-979-004.

Applicants: Rocky Ridge Wind Project, LLC.

Description: Rocky Ridge Wind Project, LLC submits tariff filing per 35: Rocky Ridge Wind Project MBR Tariff Amendment to be effective 9/15/2013.

Filed Date: 7/17/13.

Accession Number: 20130717-5262.

Comments Due: 5 p.m. ET 8/7/13.

Docket Numbers: ER13-1989-000.

Applicants: Delta Person Limited Partnership.

Description: Notice of Cancellation of FERC Rate Schedule No. 1 of Delta Person Limited Partnership.

Filed Date: 7/17/13.

Accession Number: 20130717-5118.

Comments Due: 5 p.m. ET 8/7/13.

Docket Numbers: ER13-1990-000.

Applicants: Southwest Power Pool, Inc.

Description: Southwest Power Pool, Inc. submits tariff filing per 35.13(a)(2)(iii: Attachment T Revisions—Balanced Portfolio Reallocation to be effective 9/30/2013.

Filed Date: 7/17/13.

Accession Number: 20130717-5258.

Comments Due: 5 p.m. ET 8/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2013.
Nathaniel J. Davis, Sr.,
Deputy Secretary.

[FR Doc. 2013-17743 Filed 7-23-13; 8:45 am]

BILLING CODE 6717-01-P